DEPARTMENT OF THE INTERIOR

Office of the Secretary

[1541D0102DMDS64600000DLSN00000.000000DX6460114]

Notice of Senior Executive Service Performance Review Board Appointments

AGENCY: Office of the Secretary, Interior.

ACTION: Notice.

SUMMARY: This notice provides the names of individuals who have been appointed to serve as members of the Department of the Interior Senior Executive Service (SES) Performance Review Board.

DATES: These appointments are effective upon publication in the Federal Register.

FOR FURTHER INFORMATION CONTACT: Thomas Mulhern, Director, Office of Human Resources, Office of the Secretary, Department of the Interior, 1849 C Street NW., Washington, DC 20240, Telephone Number: (202) 208-6761.

SUPPLEMENTARY INFORMATION: The members of the Department of the Interior SES Performance Review Board are as follows:

Name:

Altemus, Michele J.

Anderson, Allyson K.

Anderson, Roderick M.

Andrew, Jonathan M.

Applegate, James D. R.

Arroyo, Bryan

Atkinson, Karen J.

Austin, Stanley J.

Awn I, Muhammad H.

Bales, Jerad D.

Barchenger, Ervin J

Bathrick, Mark L.

Bayani, Theresa Walsh

Beall, James W.

Bean, Michael J.

Beaudreau, Tommy P.

Beck, Richard T.

Belin, Alletta D.

Berrigan, Michael J.

Birdsong, Bret Creech

Black, Michael S.

Blanchard, Mary Josie

Boling, Edward A.

Bolton, Hannibal

Bowker, Bryan L.

Broun, Laurence I.

Brown, David W.

Brown, Laura B.

Brown, William Y

Buffa, Nicole Nmn

Burch, Melvin E.

Burckman, James N.

Burden, John W.

Burzyk, Carla M.

Caramanian, Lori L.

Carl, Leon M.

Carter-Pfisterer, Carole

Charlip, Ralph Blair

Clark, Horace G.

Clement, Joel P.

Compton, Jeffrey S.

Connell, Jamie E.

Cordova-Harrison, Elizabe

Craff, Robert C.

Cribley, Bud C.

Cruickshank, Walter D.

Cruzan, Darren A.

Daniel-Davis, Laura E.

Darnell, Joseph D.

Davis, Mark H.

Dean, Francis J.

Deerinwater, Daniel J.

Delaplaine, L. Bruce

Demulder, Mark L.

Dickinson, William K.

Ditmanson, Dale A.

Donner, Cynthia

Douglas, James C.

Dutschke, Amy L.

Eller, Sharon D.

Ellis, Steven A.

Elmore, Kimberly

Esquivel, Francis O.

Estenoz, Shannon A.

Ethridge, Max M.

Faeth, Lorraine V.

Farber, Michael D.

Farquhar, Edward P.

Ferrlter, Olivia B.

Flanagan, Denise A.

Ford, Jerome E.

Forrest, Vicki L.

Frazer, Gary D.

Freeman, Sharee M.

Frost, Herbert C.

Fulp, Terrance J.

Gallagher, Kevin T.

Gidner, Jerold L.

Glaser, Donald R.

Glenn, Douglas A.

Glomb, Stephen J.

Goklany, Indur M.

Goldfuss, Christina White

Gonzales-Schreiner, Rosea

Goodwin, Janet A.

Gould, Gregory J.

Gould, Rowan W.

Graziano, Angela V.

Gross, Lawrence Nmn Jr.

Guertin, Stephen D.

Hamley, Jeffrey L.

Hanna, Jean Ette D.

Hardgrove, Stephen A.

Harris, Sarah E.

Hart, Paula L.

Hartley, Deborah J.

Haskett, Geoffrey L

Haugrud, Kevin Jack

Hawbecker, Karen S.

Haze, Pamela K.

Herbst, Lars T.

Hildebrandt, Betsy J.

Holland-Bartels, Leslie E.

Holleman, Paul F.

Hoskins, David William

Hum Bert, Harry L.

Impson, Robert K.

Iseman, Thomas M.

Iudicello, Fay S.

Jackson, J. Andrew

Jacobson, Rachel L.

James, James D. Jr.

Johnson, Lynn A.

Johnston, Michael J.

Juen, Jesse J.

Keable, Edward T.

Keel, M. Franklin

Kelly, Francis P.

Kelly, Katherine P.

Kendall, James J. Jr.

Kendall, Mary L.

Kenna, James G.

Kimball, Dan B.

Kimball, Suzette M.

Kinsinger, Anne E.

Klein, Allen D.

Klein, Elizabeth A.

Knox, Robert A.

Knox, Victor W.

Kornze, Neil G.

Kurth, James W.

Laird, Joshua Radbill

Lance, Linda L.

Larsen, Matthew C.

Lauro, Salvatore R.

Lee, Lorri J.

Lehnertz, Christine S.

Loftin, Melinda J.

Lohoefener, Renne R.

Lords, Douglas A.

Loudermilk, Weldon B.

Lueders, Amy L.

Lyon, John G.

Lyons, James R.

Mabry, Scott L.

Masica, Sue E.

Mazer, Bernard J.

Mccaffery, James G.

Mcdowall, Lena E

Mckeown, Matthew I.

Melius, Thomas O.

Milakofsky, Benjamin E

Morris, David A.

Morris, Douglas W.

Moss, Adrianne L.

Mulhern, Thomas A.

Murillo, David G.

Murphy, Timothy M.

Mussenden, Paul A.

Nedd, Michael D.

Neimeyer, Sarah C.

Neubacher, Donald L.

O'dell, Margaret G.

Oneill, Keith James

Orr, L. Renee

Ortiz, Hankie P.

Owens, Glenda Hudson

Palma, Juan M.

Parisian, Edward F.

Payne, Grayford F.

Perez, Jerome E.

Peterson, Penny Lynn

Pimley, Lowell D.

Pinto, Sharon Ann

Pletcher, Mary F.

Prince, Venus Mcghee.

Pula, Nikolao Iuli

Quint, Robert

Rauch, Paula

Reidenbach, Dennis R.

Reynolds, Michael T.

Reynolds, Thomas G.

Rice, Bryan C.

Rideout, Sterling J. Jr

Roberson, Edwin L.

Roberts, Lawrence Scott

Rodi, John L.

Roessel, Charles M.

Rosen, Diane K.

Ross, John W.

Roth, Barry N.

Rountree, Carl D.

Rugen, Catherine E.

Russ, David P.

Ryan, Michael J.

Salerno, Brian M.

Salotti, Christopher P.

Schneider, Margaret N.

Scott, Mary Gibson

Sheaffer, C. Bruce

Sheehan, Denise E.

Sholly, Cameron H.

Shope, Thomas D.

Simmons, Shayla F. S

Impson, Donald A.

Singer, Michele F.

Slack, James J.

Smiley, Karla J.

Smith, Michael R.

Sobeck, Eileen Nmn

Sogge, Mark K.

Sonderman, Debra E.

Speaks, Stanley M.

Stanton, Robert G.

Stevens, Bartholomew S.

Steward, James D.

Suazo, Raymond

Taber, Teresa Renee

Talayumptewa, David N.

Taylor, Ione L.

Taylor, Kenneth S.

Taylor, Willie R.

Teskey, Mark Stanley

Thompson, Thomas D.

Thornhill, Alan D.

Thorsen, Kim Berley A.

Thorson, Robyn

Toothman, Stephanie S.

Tschudy, Deborah Gibbs

Tuggle, Benjamin N.

Uberuaga, David V.

Updike, Randall G.

Vela, Raymond David

Velasco, Janine M.

Vogel, Robert A.

Wade, Diane K.

Wainman, Barbara V.

Walker, William T.

Walkoviak, Larry P.

Walsh, Noreen E.

Ward, Joseph M. Jr.

Washburn, Elizabeth R.

Washburn, Julia L.

Wayson, Thomas C.

Weaver, Jess D.

Weber, Wendi

Welch, Ruth L.

Wells, Sandra J.

Wenk, Daniel N.

Werkheiser, William H.

White, John Ethan

Whitesell, Stephen E.

Whittington, Samuel Q.

Williams, Lc

Williams, Margaret C.

Wolf, Robert W

Woody, William C.

Woronka, Theodore

Thomas Mulhern,
Director, Office of Human Resources.

[FR Doc. 2013-29962 Filed 12-19-13; 8:45 am]

BILLING CODE 4310-RK-P